DEPARTMENT OF THE INTERIOR

Bureau of Land Management

[LLMTC 00900.L16100000.DP0000 MO#4500073795]

Notice of Public Meeting, Eastern Montana Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Eastern Montana Resource Advisory Council (RAC) will meet as indicated below.

DATES: The Eastern Montana Resource Advisory Council meeting will be held on December 4, 2014 in Billings, Montana. The meeting will start at 8:00 a.m. and adjourn at approximately 4:30 p.m.

ADDRESSES: Billings Hampton Inn, 5110 Southgate Drive, Billings, MT 59101

FOR FURTHER INFORMATION CONTACT: Mark Jacobsen, Public Affairs Specialist, BLM Eastern Montana/Dakotas District, 111 Garryowen Road, Miles City, Montana 59301; (406) 233-2831; mjacobse@blm.gov. Persons who use a telecommunications device for the deaf (TDD) may call the Federal Information Relay Service (FIRS) at 1-800-677-8339 to contact the above individual during normal business hours. The FIRS is available 24 hours a day, 7 days a week to leave a message or a question with the above individual. You will receive a reply during normal business hours.

SUPPLEMENTARY INFORMATION: The 15-member Resource Advisory Council advises the Secretary of the Interior through the BLM on a variety of planning and management issues associated with public land management in Montana. At this meeting, the agenda will include: A welcome to the new RAC members, councilmember and BLM staff introductions, an Eastern Montana/Dakotas District Manager update, Miles City Field Office and Billings Field Office progress briefings, a progress report by the Pumpkin Creek Area RAC subcommittee, individual RAC member reports to BLM managers and other issues that the council may raise during the course of discussion at this meeting. All meetings are open to the public. This RAC meeting will have time allocated for hearing public comments and the public may also present written comments to the council. Depending on the number of persons wishing to comment and the time available, the time for individual oral comments may be limited. Individuals who plan to attend and need special assistance, such as sign language interpretation, tour transportation or other reasonable accommodations should contact the BLM as provided above.

Authority: 43 CFR 1784.4-2.

Diane M. Friez,
Eastern Montana/Dakotas District Manager.

[FR Doc. 2014-26454 Filed 11-5-14; 8:45 am]

BILLING CODE 4310-DN-P